DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 81 FR 66284-66285, dated September 27, 2016) is amended to reflect the reorganization of the Human Resources Office, Office of the Chief Operating Officer, Centers for Disease Control and Prevention.

Section C-B, Organization and Functions, is hereby amended as follows:

Delete in its entirety the title and the mission and function statements for the Human Resources Office (CAJQ) and insert the following:

Human Resources Office (CAJQ). (1) Provides leadership, policy formation, oversight, guidance, service, and advisory support and assistance to the Centers for Disease Control and Prevention (CDC) and the Agency for Toxic Substances and Disease Registry (ATSDR); (2) collaborates as appropriate, with the CDC Office of the Director (OD), Centers/Institute/Offices (CIOs), domestic and international agencies and organizations; and provides a focus for short- and long-term planning within the Human Resource Office (HRO); (3) develops and administers human capital and human resource management policies; (4) serves as the business steward for all CDC developed human capital and human resources management systems and applications; (5) develops, maintains, and supports information systems to conduct personnel activities and provide timely information and analyses of personnel and staffing to management and employees; (6) conducts and coordinates human resources management for civil service and Commissioned Corps personnel; (7) manages the administration of fellowship programs; (8) conducts recruitment, special emphasis, staffing, position classification, position management, pay and leave administration, work-life programs, performance management, employee training and development, and employee and labor relations programs; (9) maintains personnel records and reports, and processes personnel actions and documents; (10) administers the federal life and health insurance programs; (11) administers employee recognition, suggestion, and incentive awards programs; (12) furnishes advice and assistance in the processing of workers compensation claims; (13) interprets standards of conduct regulations, reviews financial disclosure reports, and offers ethics training and counseling services to CDC/ATSDR employees; (14) maintains liaison with the Department of Health and Human Services (HHS) and the Office of Personnel Management (OPM) on human resources management, policy, compliance and execution of the Human Capital Assessment and Accountability Framework; (15) conducts organizational assessments to determine compliance with human capital policies, guidance, regulatory and statutory requirements of federal human capital and resource management programs and initiatives; (16) plans, directs, and manages CDC/ATSDR-wide training programs, monitors compliance with mandatory training requirements, and maximizes economies of scale through systematic planning and evaluation of agency-wide training initiatives to assist employees in achieving required competencies; (17) assists in the definition and analysis of training needs and develops and evaluates instructional products designed to meet those needs; (18) develops, designs, and implements a comprehensive leadership and career management program for all occupational series throughout CDC/ATSDR; (19) provides technical assistance in organizational development, career management, employee development, and training; (20) collaborates and works with partners, internally and externally, to develop workforce goals and a strategic vision for the public health workforce; (21) provides support for succession planning, forecasting services, and environmental scanning to ascertain both current and future public health workforce needs; and (22) administers and maintains the customer service help desk.

Office of the Director (CAJQ1). (1) Provides leadership and overall direction for HRO; (2) develops goals and objectives, and provides leadership, policy formation, oversight, and guidance in program planning and development; (3) plans, coordinates, and develops strategic plans for HRO; (4) develops and administers human capital and human resource management policies and procedures; (5) coordinates all program reviews; (6) provides technical assistance and consultation in the development of proposed legislation, Congressional testimony, and briefing materials; (7) establishes performance metrics and coordinates quarterly reviews to ascertain status on meeting of the metrics; (8) coordinates budget formulation, negotiation, and execution of financial resources; (9) identifies relevant scanning/benchmarking on workforce and career development processes, services and products; (10) provides leadership and guidance on new developments and national trends for the public health workforce; (11) establishes and oversees policies governing human capital and human resources management, and works collaboratively within CDC/ATSDR and other components in planning, developing and implementing policies; (12) develops strategic plans for information technology and information systems required to support human capital and human resources management information requirements; (13) serves as the business steward for CDC/ATSDR-wide human capital and human resources administrative systems and advocates and supports the commitment of resources to application development; (14) coordinates HR information resource management activities with the Management Information Systems Office and the related governance groups; (15) coordinates management information systems and analyses of data for improved utilization of resources; (16) serves as a liaison with HHS on the utilization and deployment of centralized HHS human capital and human resource management systems and applications; (17) applies standards of conduct regulations, reviews financial disclosure reports, and offers ethics training and counseling services to CDC/ATSDR employees; and (18) conducts demographic analysis of the CDC/ATSDR work force and publishes results in management reports.

Ethics and Compliance Activity (CAJQ12). (1) Oversees the CDC/ATSDR ethics and compliance program to ensure that processes and procedures are in place to ensure compliance with government-wide ethics statutes, regulations, and standards; (2) identifies and corrects weaknesses in policy, training, and monitoring to prevent CDC/ATSDR non-compliance of HHS supplemental ethics regulations; (3) serves as a liaison between the Office of Government Ethics and HHS on ethics matters; (4) applies standards of conduct regulations; (5) reviews financial disclosure reports for potential conflicts of interest; (6) provides continuing ethics training and counseling services; and (7) reviews and approve ethics-related requests for employees.

Commissioned Corps Activity (CAJQ14). (1) Serves as the primary contact for CDC/ATSDR management and employees in obtaining the full range of personnel assistance and management services for Commissioned Corps personnel; (2) provides leadership, technical assistance, guidance, and consultation in benefits, entitlements, and obligations of the Commissioned Corps to commissioned officers; (3) plans, directs, and manages the Department of Defense's Defense Eligibility Enrollment Report System identification card program for all active duty officers, retirees, and eligible dependents; (4) implements and evaluates Commissioned Corps policies and systems such as salary/benefits, performance management, assignments, health benefits, training, travel, relocation, and retirement; (5) manages the CDC/ATSDR's Commissioned Corps promotion and awards programs; (6) maintains liaison and coordinates personnel services for Commissioned Corps personnel with the Office of Commissioned Corps Operations and the Office of Surgeon General; (7) coordinates the agency deployment status of commissioned officers assigned to CDC and manages the Emergency Operation Center (EOC) Commissioned Corps deployment desk during activation of the CDC EOC; and (8) establishes and maintains personnel and payroll records and files.

Policy and Communications Activity (CAJQ15). (1) Provides leadership, oversight, guidance and support for policy and communication activities supporting HRO; (2) develops, administers and monitors the implementation of human capital and human resources management policies and operational procedures as directed by OPM, HHS, CDC/ATSDR or other pertinent federal agencies to ensure consistent application across CDC/ATSDR; (3) serves as the focal point for the analysis, development, technical review and clearance of controlled correspondence and non-scientific policy documents that require approval/signature from the HRO Director or other senior CDC/ATSDR leadership; (4) responds to and coordinates requests from the OD for issues management information to ensure efficient responses to the Director's priority issues; (5) provides and manages a wide range of communication services in support of HRO; (6) facilitates open and transparent employee communication; (7) develops and implements internal and external public relations strategies to communicate upward and outward to customers, partners, and other stakeholders; and (8) utilizes multiple channels and methods to communicate and disseminate HR policies, announcements, procedures, information, and other relevant messages.

Operations Management Activity (CAJQ17). (1) Provides leadership, oversight, and guidance in the management and operations of HRO programs; (2) provides and oversees the delivery of HRO-wide administrative management and support services in the areas of fiscal management, personnel, travel, records management, internal controls, and other administrative services; (3) prepares annual budget formulation and budget justifications; (4) coordinates HRO requirements relating to contracts, grants, cooperative agreements, and reimbursable agreements; (5) develops and implements administrative policies, procedures, and operations, as appropriate, for HRO, and prepares special reports and studies, as required, in the administrative management areas; and (6) maintains liaison with related staff offices and other officials of CDC/ATSDR.

Customer Service Help Desk Activity (CAJQ18). (1) Provides technical assistance, guidance, and consultation on employee and labor relations, employee services, pay, leave and benefits administration, staffing and recruitment, position classification; (2) Provide issues management and resolution support to HRO as well as internal and external customers; (3) manage workload assessment and customer based training; (4) monitor customer satisfaction, (5) track and assess key performance indicators and other reporting requirements; and (6) administers and maintains the customer service help desk.

Strategic Programs Office (CAJQB). (1) Provides a broad array of strategic programs, workforce support, and development services; (2) develops and implements methodologies to measure, evaluate, and improve human capital results to ensure mission alignment; (3) assesses and evaluates the overall effectiveness and compliance of human resources programs and policies related to merit-based decision-making and compliance with laws and regulations; (4) works with the OPM, HHS, and CDC Governance Boards and agency managers to carry out human capital management planning and development activities; and (5) establishes, coordinates, develops, and monitors implementation of human capital initiatives and the agency Strategic Human Capital Management Plan.

Office of the Director (CAJQB1). (1) Provides leadership and overall direction for the Strategic Program Office (SPO); (2) develops goals and objectives, and provides leadership, policy formation, oversight, and guidance in program planning and development; (3) plans, coordinates, and develops strategic plans for the SPO; (4) develops and administers human capital and human resource management policies and procedures; (5) coordinates all program reviews; (6) provides technical assistance and consultation to the activities within the SPO; (7) establishes performance metrics and coordinates reviews to ascertain status on meeting of the metrics; and (8) coordinates, develops, and monitors implementation of human capital initiatives and the agency Strategic Human Capital Management Plan.

Human Capital Effectiveness and Accountability Activity (CAJQB2). (1) Operates as an internal audit function to maintain the operational integrity of human resources and human capital areas and safeguards legal and regulatory requirements; (2) ensures that human capital goals and programs are aligned with and support CDC/ATSDR missions; (3) ensures that human capital planning is guided by a data driven, results-oriented process toward goal achievement; (4) ensures that managers and HR practitioners are held accountable for their human capital decisions; (5) assesses the effectiveness and efficiency of the HR function; (6) ensures human capital programs and policies adhere to merit system principles and other pertinent laws and regulations; (7) conducts recurring delegated examining audits and periodic human capital management reviews to verify and validate the level of compliance and performance; and (8) implements a plan for addressing issues or problems identified during accountability audits and related activities.

Workforce Planning Activity (CAJQB3). (1) Advises and facilitates strategic workforce planning and development for CDC/ATSDR; (2) supports HRO and CIO program officials in the development, implementation and evaluation of workforce plans, policies, and initiatives; (3) serves as a liaison with HHS and entities within and outside the Agency to develop CDC/ATSDR's human capital management direction and strategies; (4) coordinates the development and implementation of an agency-wide strategic human capital plan; (5) identifies mission-critical occupations and associated competencies to assess potential gaps in occupations and competencies that are essential to CDC/ATSDR achieving its strategic goals; (6) reports on CDC/ATSDR's progress in meeting human capital management improvement objectives associated with HHS-wide and government-wide human capital management improvement; (7) develops and executes a strategic hiring plan to facilitate the recruitment and retention of members of under-represented groups and for closing occupational series and/or competency gaps in the workforce; (8) provides recruitment, retention, consultation and support to customers; and (9) supports CIO-specific, mission-critical work by managing various training programs designed to provide students, postgraduates, and university faculty with opportunities to participate in projects and assignments in support of CDC/ATSDR's missions.

Information Systems and Data Analytics Activity (CAJQB4). (1) Oversees all human resources information technology CDC/ATSDR systems and serves as the liaison to HHS in the development, maintenance, and support of Department-wide human resource information systems and applications; (2) manages capital planning and investment control activities related to all CDC/ATSDR developed human capital and human resources management systems and applications; (3) serves as liaison and provides support in the development and maintenance of HHS enterprise human resources systems; (4) facilitates the administration, analysis and reporting of, and provides recommendations for, business process improvements in regards to survey data or other business process reengineering efforts; (5) supports periodic reporting requirements from CDC/ATSDR, HHS, OPM, and Office of Management and Budget (OMB); (6) provides business strategy, data analytics, and reporting services; (7) performs analysis, forecasting, and modeling to interpret quantitative and qualitative data; (8) reports and evaluates organizational performance outcomes on key measures and metrics; (9) oversees the human resources governance structure and change control board activities; (10) develops strategic plans for information technology and information systems required to support human capital and human resources management information requirements; (11) coordinates HR information resource management activities with the Management Information Systems Office and the related governance groups; and (12) coordinates management information systems and analyses of data for improved utilization of resources;

CDC University Office (CAJQC). (1) Provides agency-wide leadership and guidance in all functional areas related to training and career development; (2) designs, develops, implements and evaluates a comprehensive strategic human resource leadership and career training and development program for all occupational series throughout CDC; (3) develops and implements training strategies and activities that contribute to the agency's mission, goals and objectives; (4) maximizes economies of scale through systematic planning, administration, delivery, and evaluation of agency-wide training initiatives to assist CDC employees in achieving required competencies; (5) development of retraining activities for CDC managers/employees affected by organizational changes (e.g. major reorganizations, outsourcing initiatives, etc.); (6) maintains employee training records; (7) develops and validates occupational and functional competencies and develops related training plans and career maps; (8) develops and administers professional development programs; (9) administers and monitors the Training and Learning Management System for compliance with the Government Employees Training Act; (10) conducts training needs assessment of employees, provides analysis and data to correlate individual training with strategic plans; (11) develops and maintains assessment tools to identify core competency requirements for each occupational series throughout the agency; (12) provides consultation, guidance, and technical assistance to managers and employees in organizational development, career management, employee development, and training; (13) develops and delivers education and training programs to meet the identified needs of the workforce; (14) promotes, develops, and implements training needs assessment methodology to establish priorities for training interventions; (15) collaborates, as appropriate, with the CDC/OD, CIOs, HHS, OPM and other domestic and international agencies and organizations; and (16) develops and implements policies related to employee training.

Office of the Director (CAJQC1). (1) Provides leadership and overall direction for the CDC University Office; (2) develops goals and objectives, and provides leadership, policy formation, oversight, and guidance in program planning and development; (3) plans, coordinates, and develops strategic plans for the CDC University Offices; (4) coordinates all program reviews; (5) provides technical assistance and consultation to the activities within the CDC University Office; (6) establishes performance metrics and coordinates reviews to ascertain status on meeting of the metrics; and (7) coordinates, develops, and monitors implementation of training initiatives for the agency.

Career Development Activity (CAJQC2). (1) Designs, develops, implements and evaluates training activities to increase competency in the area of career development strategies; (2) maximizes economies of scale through systematic planning, administration, delivery, and evaluation of agency-wide training initiatives to assist CDC/ATSDR employees in achieving required competencies; (3) develops retraining activities for CDC/ATSDR managers/employees affected by organizational changes (e.g. major reorganizations, outsourcing initiatives, etc.); (4) maintains employee training records; (5) develops and validates occupational and functional competencies and develops related training plans and career maps; (6) develops and administers professional development programs to include mentoring and coaching for enhanced performance; (7) conducts training needs assessment of employees, provides analysis and data to correlate individual training with strategic plans; (8) develops and maintains assessment tools to identify core competency requirements for each occupational series throughout the agency; (9) provides consultation, guidance, and technical assistance to managers and employees in organizational development, career management, employee development, and training; (10) promotes, develops, and implements training needs assessment methodology to establish priorities for training interventions; (11) collaborates, as appropriate, with the CDC/ATSDR/OD, CIOs, HHS, OPM and other domestic and international agencies and organizations; (12) implements procedural components in compliance to the long term education training policy; and (13) conducts New Employee Orientation for the agency.

Leadership Development Activity (CAJQC3). (1) Designs, develops, implements and evaluates a comprehensive leadership development curriculum for leaders at all levels throughout CDC/ATSDR; (2) develops and implements leadership training strategies and activities that contribute to the agency's mission, goals and objectives; (3) maximizes economies of scale through systematic planning, administration, delivery, and evaluation of agency-wide training initiatives to assist CDC/ATSDR employees in achieving required competencies; (4) maintains employee training records; (5) develops and administers professional development programs such as executive coaching; (6) provides consultation, guidance, and technical assistance to managers and employees around leadership training and development activities; (7) develops and delivers education and training programs to meet the identified needs of the workforce; (8) collaborates, as appropriate, with the CDC/ATSDR/OD, CIOs, HHS, OPM and other domestic and international agencies and organizations; and (9) implements procedural components in compliance to the mandatory supervisory training requirements policy.

Public Health Training Activity (CAJQC4). (1) Designs, develops, implements and evaluates a comprehensive public health training curriculum for employees engaged in public health activities throughout CDC/ATSDR; (2) develops and implements public health, science, research and medicine and preparedness and emergency response training strategies and activities that contribute to the agency's mission, goals and objectives; (3) maximizes economies of scale through systematic planning, administration, delivery, and evaluation of agency-wide training initiatives to assist CDC employees in achieving required competencies; (4) maintains employee training records; (5) provides consultation, guidance, and technical assistance to managers and employees associated within curriculum scope; (6) develops and delivers education and training programs to meet the identified needs of the workforce; and (7) collaborates, as appropriate, with the CDC/ATSDR/OD, CIOs, HHS, OPM and other domestic and international agencies and organizations.

Business and Technology Training Activity (CAJQC5). (1) Designs, develops, implements and evaluates a comprehensive business and technology training curriculum for employees throughout CDC/ATSDR; (2) develops and implements financial, acquisition and project management, communication and office skills and information technology training strategies and activities that contribute to the agency's mission, goals and objectives; (3) maximizes economies of scale through systematic planning, administration, delivery, and evaluation of agency-wide training initiatives to assist CDC/ATSDR employees in achieving required competencies; (4) maintains employee training records; (5) provides consultation, guidance, and technical assistance to managers and employees associated within curriculum scope; (6) develops and delivers education and training programs to meet the identified needs of the workforce; and (7) collaborates, as appropriate, with the CDC/ATSDR/OD, CIOs, HHS, OPM and other domestic and international agencies and organizations.

Workforce Relations Office (CAJQD). (1) Provides leadership, technical assistance, guidance, and consultation on employee and labor relations, employee services and assistance, work-life programs, performance management, incentive awards, pay, leave and benefits administration, on-the-job injuries and exposures to infectious diseases, debt complaints and other job-related issues; (2) develops and administers labor-management and employee relations program including: Disciplinary actions, grievances and appeals, labor negotiations, collective bargaining, management representation before third parties, and partnership activities; (3) serves as liaison with the Office of Safety, Security and Asset Management (OSSAM) and other CDC/ATSDR staff for personnel matters relating to substance abuse and other employee assistance programs; (4) coordinates and processes garnishment, child support, and other collection actions for CDC/ATSDR employees; (5) plans, directs, coordinates, and conducts contract negotiations on behalf of agency management with labor organizations holding exclusive recognition; (6) represents management in third party proceedings involving labor and employee relations issues; (7) serves as the authority to ensure validity, consistency, and legality of employee relations matters concerning grievances (both negotiated and agency procedures), disciplinary actions, adverse actions, and resultant third party hearings; (8) plans and coordinates all programmatic activities to include preparation of disciplinary and adverse action letters and all final agency decisions in grievances and appeals; (9) provides technical advice, consultation, and training on matters of employee conduct and performance; (10) provides consultation, guidance, and technical advice to human resources specialists, managers, and employees on the development, coordination and implementation of all work-life program initiatives; (11) provides personnel services relating to on-the-job injuries and exposures to infectious diseases; (12) facilitates the development and implementation of an agency-wide strategic approach to monitoring, evaluating, aligning, and improving performance management policies and practices for all CDC performance management systems (Title 5, Title 42, Senior Executive Service (SES), Senior Biomedical Research Service (SBRS), and the Commissioned Officer Effectiveness Report (COER); (13) coordinates performance management, strategic rewards and recognition programs and systems; (14) provides human resources services and assistance on domestic and international employee benefits and leave administration; (15) serves as liaison between CDC/ATSDR and the HHS payroll office resolving discrepancies with pay and leave; (16) administers the leave donor program and processes time and attendance amendments; (17) administers the federal life and health insurance programs; (18) provides policy guidance and technical advice and assistance on retirement, the Thrift Savings Plan, health/life insurance, and savings bonds; and (19) furnishes advice and assistance in the processing of Office of Workers' Compensation Program claims and the Voluntary Leave Donation Program;

Office of the Director (CAJQD1). (1) Provides leadership and overall direction for the Workforce Relations Office; (2) develops goals and objectives, and provides leadership, policy formation, oversight, and guidance in program planning and development; (3) plans, coordinates, and develops strategic plans for the Workforce Relations Offices; (4) coordinates all program reviews; (5) provides technical assistance and consultation to the activities within the Workforce Relations Office; and (6) coordinates, develops, and monitors implementation of program initiatives.

Employee and Labor Relations Activity (CAJQD2). (1) Provides leadership, technical assistance, guidance, and consultation on employee and labor relations, employee services; (2) develops and administers labor-management and employee relations program including: disciplinary actions, grievances and appeals, labor negotiations, collective bargaining, management representation before third parties, and partnership activities; (3) serves as liaison with OSSAM and other CDC/ATSDR staff for personnel matters relating to substance abuse and other employee assistance programs; (4) coordinates and processes garnishment, child support, and other collection actions for CDC/ATSDR employees; (5) plans, directs, coordinates, and conducts contract negotiations on behalf of agency management with labor organizations holding exclusive recognition; (6) represents management in third party proceedings involving labor and employee relations issues; (7) serves as the authority to ensure validity, consistency, and legality of employee relations matters concerning grievances (both negotiated and agency procedures), disciplinary actions, adverse actions, and resultant third party hearings; (8) plans and coordinates all programmatic activities to include preparation of disciplinary and adverse action letters and all final agency decisions in grievances and appeals; (9) provides technical advice, consultation, and training on matters of employee conduct and performance; and (10) provides consultation, guidance, and technical advice to human resources specialists, managers, and employees on the development.

Employee Benefits, WorkLife Programs and Payroll Activity (CAJQD3). (1) Provides consultation, guidance, and technical advice to human resources specialists, managers, and employees on the development, coordination and implementation of all WorkLife program initiatives; (2) provides personnel services relating to on-the-job injuries and exposures to infectious diseases; (3) provides human resources services and assistance on domestic and international employee benefits and leave administration; (4) serves as liaison between CDC/ATSDR and the HHS payroll office resolving discrepancies with pay and leave; (5) administers the leave donor program and processes time and attendance amendments; (6) administers the federal life and health insurance programs; (7) provides policy guidance and technical advice and assistance on retirement, the Thrift Savings Plan, health/life insurance, and savings bonds; and (8) furnishes advice and assistance in the processing of Office of Workers' Compensation Program claims and the Voluntary Leave Donation Program.

Performance Management, Strategic Rewards and Recognitions Activity (CAJQD4). (1) Facilitates the development and implementation of an agency-wide strategic approach to monitoring, evaluating, aligning, and improving performance management policies and practices for all CDC/ATSDR performance management systems (Title 5, Title 42, SES, SBRS, and the COER); and (2) coordinates performance management, strategic rewards and recognition programs and systems.

Client Services Office (CAJQE). (1) Serves as the primary contact for CDC/ATSDR management and employees in obtaining the full range of personnel assistance and management services for civil service personnel; (2) provides leadership, technical assistance, guidance, and consultation in human resource utilization, position management, classification and pay administration, recruitment, staffing, placement, reorganizations, program evaluation, and personnel records and files management; (3) maintains liaison with HHS and OPM in the area of human resources management; (4) provides leadership in identifying the CIOs recruiting needs, and assesses, analyzes, and assists CDC/ATSDR programs in developing and executing short- and long-range hiring plans to meet these needs; (5) provides guidance to CDC/ATSDR organizations in the development of staffing plans and job analyses, evaluating/classifying position descriptions, conducting position management studies, and responding to desk audit requests; (6) processes personnel actions by determining position classification, issuing vacancy announcements, assisting in development of selection criteria, conducting examining under delegated examining authority, conducting candidate rating and ranking under CDC Merit Promotion Plan, making qualification determinations, determining pay, conducting reductions-in-force, effecting appointments and processing other actions; (7) codes and finalizes all personnel actions in the automated personnel data system, personnel action processing, data quality control/assessment, and files/records management; (8) plans, develops, implements, and evaluates systems to ensure consistently high quality human resources services; (9) establishes objectives, standards, and internal controls; (10) evaluates, analyzes, and makes recommendations to improve personnel authorities, policies, systems, operations, and procedures; (11) manages various staffing programs such as the CDC summer program, Priority Placement Program, Priority Consideration Program, the Interagency Career Transition Assistance Program, and the Career Transition Assistance Program and other special emphasis programs; (12) provides consultation, guidance, and technical advice on recruitment and special emphasis policies, practices, and procedures, including search committees, strategizes on the best approach to recruitment at specific events, and designs and develops recruitment materials for events; (13) establishes and maintains personnel records, files, and controls; (14) establishes and maintains the official personnel files system and administers personnel records storage and disposal program; (15) collaborates with Personnel Security in initiating suitability background checks and fingerprints for all CDC/ATSDR personnel; (16) responds to employment verification inquiries; and (17) administers the Special Emphasis Programs and Student Intern/Fellowship Programs.

Office of the Director (CAJQE1). (1) Provides leadership and overall direction for the Client Services Office; (2) develops goals and objectives, and provides leadership, policy formation, oversight, and guidance in program planning and development; (3) plans, coordinates, and develops strategic plans for the Client Services Offices; (4) coordinates all program reviews; (5) provides technical assistance and consultation to the Activities within the Client Services Office; and (6) coordinates, develops, and monitors implementation of program initiatives.

Customer Staffing Activity 1 (CAJQE2). (1) Supports the CDC, OD, Business Services Offices, Staff Offices, Office of Public Health Scientific Services, Office of State, Tribal, Local and Territorial Support; (2) provides leadership in identifying CIOs recruiting needs, and assesses, analyzes, and assists CDC programs in developing and executing short- and long-range hiring plans to meet these needs; (3) provides guidance to CDC organizations in the development of staffing plans and job analyses; (4) processes personnel actions by issuing vacancy announcements, assisting in development of selection criteria, conducting examinations under delegated examining authority, conducting candidate rating and ranking under CDC Merit Promotion Plan, making qualification determinations, determining pay, conducting reductions-in-force, effecting appointments and processing other actions; (5) plans, develops, implements, and evaluates systems to ensure consistently high quality human resources services; (6) establishes objectives, standards, and internal controls; (7) evaluates, analyzes, and makes recommendations to improve personnel authorities, policies, systems, operations, and procedures; (8) provides consultation, guidance, and technical advice on recruitment and special emphasis policies, practices, and procedures, including search committees, strategizes on the best approach to recruitment at specific events, and designs and develops recruitment materials for events; (9) provides leadership, technical assistance, guidance, and consultation in human resource utilization, position management, classification and pay administration; and (10) codes and finalizes all personnel actions in the automated personnel data system; data quality control/assessment, and files/records management.

Customer Staffing Activity 2 (CAJQE3). (1) Supports the Office of Non-communicable Diseases, Injury and Environmental Health and subordinate Centers, National Center for Chronic Disease Prevention and Health Promotion, National Center for Injury Prevention and Control, and the National Center on Birth Defects and Developmental Disabilities; (2) provides leadership in identifying CIOs recruiting needs, and assesses, analyzes, and assists CDC/ATSDR programs in developing and executing short- and long-range hiring plans to meet these needs; (3) provides guidance to CDC/ATSDR organizations in the development of staffing plans and job analyses; (4) processes personnel actions by issuing vacancy announcements, assisting in development of selection criteria, conducting examinations under delegated examining authority, conducting candidate rating and ranking under CDC Merit Promotion Plan, making qualification determinations, determining pay, conducting reductions-in-force, effecting appointments and processing other actions; (5) plans, develops, implements, and evaluates systems to ensure consistently high quality human resources services; (6) establishes objectives, standards, and internal controls; (7) evaluates, analyzes, and makes recommendations to improve personnel authorities, policies, systems, operations, and procedures; (8) provides consultation, guidance, and technical advice on recruitment and special emphasis policies, practices, and procedures, including search committees; strategizes on the best approach to recruitment at specific events, and designs and develops recruitment materials for events; (9) provides leadership, technical assistance, guidance, and consultation in human resource utilization, position management, classification and pay administration; and (10) codes and finalizes all personnel actions in the automated personnel data system and ensures data quality control/assessment, and files/records management.

Customer Staffing Activity 3 (CAJQE4). (1) Supports the National Center for Emerging and Zoonotic Infectious Diseases, National Center for Immunization and Respiratory Diseases, and the Office of Infectious Diseases; (2) provides leadership in identifying CIOs recruiting needs, and assesses, analyzes, and assists CDC/ATSDR programs in developing and executing short- and long-range hiring plans to meet these needs; (3) provides guidance to CDC organizations in the development of staffing plans and job analyses; (4) processes personnel actions by issuing vacancy announcements, assisting in development of selection criteria, conducting examinations under delegated examining authority, conducting candidate rating and ranking under CDC Merit Promotion Plan, making qualification determinations, determining pay, conducting reductions-in-force, effecting appointments and processing other actions; (5) plans, develops, implements, and evaluates systems to ensure consistently high quality human resources services; (6) establishes objectives, standards, and internal controls; (7) evaluates, analyzes, and makes recommendations to improve personnel authorities, policies, systems, operations, and procedures; (8) provides consultation, guidance, and technical advice on recruitment and special emphasis policies, practices, and procedures, including search committees; strategizes on the best approach to recruitment at specific events, and designs and develops recruitment materials for events; (9) provides leadership, technical assistance, guidance, and consultation in human resource utilization, position management, classification and pay administration; and (10) codes and finalizes all personnel actions in the automated personnel data system and ensures data quality control/assessment, and files/records management.

Classification and Advisory Activity (CAJQE5). (1) provides guidance to CDC/ATSDR organizations in the development of staffing plans and job analyses, evaluating/classifying position descriptions, conducting position management studies, and responding to desk audit requests; (2) provides leadership, technical assistance, guidance, and consultation in human resource utilization, position management, classification and pay administration; (3) provides leadership in identifying CIOs classification and position management needs; (4) provides guidance to CDC organizations in the development, evaluation/classification of position descriptions; (5) conducts position management studies and responds to desk audit requests; (6) reviews reorganization proposals and provides advice on proposed staffing plans and organizational structures; (7) plans, develops, implements, and evaluates systems to ensure consistently high quality human resources services; (8) establishes objectives, standards, and internal controls; and (9) evaluates, analyzes, and makes recommendations to improve personnel authorities, policies, systems, operations, and procedures.

Technical Services Activity (CAJQE6). (1) Processes personnel actions by determining pay, conducting reductions-in-force, effecting appointments and processing other actions; (2) codes and finalizes all personnel actions in the automated personnel data system, personnel action processing, data quality control/assessment, and files/records management; (3) establishes objectives, standards, and internal controls; (4) evaluates, analyzes, and makes recommendations to improve personnel authorities, policies, systems, operations, and procedures; (5) establishes and maintains personnel records, files, and controls; (6) establishes and maintains the official personnel files system and administers personnel records storage and disposal program; (7) collaborates with Personnel Security in initiating suitability background checks and fingerprints for all CDC/ATSDR personnel; and (8) responds to employment verification inquiries.

Customer Staffing Activity 4 (CAJQE7). (1) Supports the recruitment and staffing services for CDC/ATSDR's international workforce; (2) provides leadership in identifying the CDC/ATSDR international workforce recruiting needs, and assesses, analyzes, and assists programs in developing and executing short- and long-range hiring plans to meet these needs; (3) provides guidance to CDC/ATSDR in the development of staffing plans and job analyses; (4) processes personnel actions by issuing vacancy announcements, assisting in development of selection criteria, conducting examinations under delegated examining authority, conducting candidate rating and ranking under CDC Merit Promotion Plan, making qualification determinations, determining pay, conducting reductions-in-force, effecting appointments and processing other actions; (5) plans, develops, implements, and evaluates systems to ensure consistently high quality human resources services; (6) establishes objectives, standards, and internal controls; (7) evaluates, analyzes, and makes recommendations to improve personnel authorities, policies, systems, operations, and procedures; (8) provides consultation, guidance, and technical advice on recruitment and special emphasis policies, practices, and procedures, including search committees; strategizes on the best approach to recruitment at specific events, and designs and develops recruitment materials for events; (9) coordinates the provision of benefits, allowances, special pay requirements, labor and employee relations support services; (10) consults with the Department of State on utilization of State Department authorities to hire locally employed staff and coordination of records management requirements (11) provides leadership in identifying CIO's classification and position management needs; (12) provides guidance to CDC/ATSDR organizations in the development, evaluation/classification of position descriptions; (13) conducts position management studies and responds to desk audit requests; (14) codes and finalizes all personnel actions in the automated personnel data system and ensures data quality control/assessment, and files/records management; and (15) reviews all reorganization proposals and provides advice on proposed staffing plans and organizational structures.

Customer Staffing Activity 5 (CAJQE8). (1) Supports the Office of Public Health Preparedness and Response, and the National Center for HIV/AIDS, Virus Hepatitis, STD, and Tuberculosis Prevention; (2) provides leadership in identifying CIOs recruiting needs, and assesses, analyzes, and assists CDC programs in developing and executing short- and long-range hiring plans to meet these needs; (3) provides guidance to CDC organizations in the development of staffing plans and job analyses; (4) processes personnel actions by issuing vacancy announcements, assisting in development of selection criteria, conducting examinations under delegated examining authority, conducting candidate rating and ranking under CDC Merit Promotion Plan, making qualification determinations, determining pay, conducting reductions-in-force, effecting appointments and processing other actions; (5) plans, develops, implements, and evaluates systems to ensure consistently high quality human resources services; (6) establishes objectives, standards, and internal controls; (7) evaluates, analyzes, and makes recommendations to improve personnel authorities, policies, systems, operations, and procedures; (8) provides consultation, guidance, and technical advice on recruitment and special emphasis policies, practices, and procedures, including search committees; strategizes on the best approach to recruitment at specific events, and designs and develops recruitment materials for events; (9) provides leadership, technical assistance, guidance, and consultation in human resource utilization, position management, classification and pay administration; and (10) codes and finalizes all personnel actions in the automated personnel data system and ensures data quality control/assessment, and files/records management.

Customer Staffing Activity 6 (CAJQE9). (1) Supports the National Institute for Occupational Safety and Health, the Agency for Toxic Substance and Disease Registry, National Center for Environmental Health, and the Office of Public Health Scientific Services/Center for Surveillance, Epidemiology, and Laboratory Services; (2) provides leadership in identifying CIOs recruiting needs, and assesses, analyzes, and assists CDC programs in developing and executing short- and long-range hiring plans to meet these needs; (3) provides guidance to CDC organizations in the development of staffing plans and job analyses; (4) processes personnel actions by issuing vacancy announcements, assisting in development of selection criteria, conducting examinations under delegated examining authority, conducting candidate rating and ranking under CDC Merit Promotion Plan, making qualification determinations, determining pay, conducting reductions-in-force, effecting appointments and processing other actions; (5) plans, develops, implements, and evaluates systems to ensure consistently high quality human resources services; (6) establishes objectives, standards, and internal controls; (7) evaluates, analyzes, and makes recommendations to improve personnel authorities, policies, systems, operations, and procedures; (8) provides consultation, guidance, and technical advice on recruitment and special emphasis policies, practices, and procedures, including search committees; strategizes on the best approach to recruitment at specific events, and designs and develops recruitment materials for events; (9) provides leadership, technical assistance, guidance, and consultation in human resource utilization, position management, classification and pay administration; and (10) codes and finalizes all personnel actions in the automated personnel data system and ensures data quality control/assessment, and files/records management.

Special Emphasis Activity (CAJQE10). (1) Serves as the primary contact for CDC/ATSDR management and employees in obtaining the full range of personnel assistance and management services for excepted service personnel; (2) manages various staffing programs such as the CDC summer program, Priority Placement Program, Priority Consideration Program, the Interagency Career Transition Assistance Program, and the Career Transition Assistance Program, Pathways Program, Public Health Associates Program, and other special emphasis programs; (3) provides consultation, guidance, and technical advice on recruitment and special emphasis policies, practices, and procedures, including search committees, strategizes on the best approach to recruitment at specific events, and designs and develops recruitment materials for events; (4) establishes and maintains personnel records, files, and controls; (5) administers the Special Emphasis Programs and Student Intern/Fellowship Programs; (6) plans, develops, implements, and evaluates systems to ensure consistently high quality human resources services; (7) establishes objectives, standards, and internal controls; (8) evaluates, analyzes, and makes recommendations to improve personnel authorities, policies, systems, operations, and procedures; and (9) process the agency's Intergovernmental Personnel Act Employees.

Executive and Scientific Resources Office (CAJQG). (1) Provides leadership, technical assistance, guidance, and consultation in the administration of policies and procedures for appointment of individuals through the SBRS, SES, distinguished consultants, experts, consultants, and fellows under Title 42 appointment authorities;

(2) provides advisory services and technical assistance on pay and compensation guidelines in accordance with OPM rules and regulations, HHS and CDC/ATSDR established pay and compensation recommendation policies, and procedures; (3) provides expert human resources advisory services and technical assistance support to the CDC/ATSDR performance review boards and compensation committees; (4) reviews actions for statutory and regulatory compliance; (5) manages strategic recruitment, relocation, and retention incentives to facilitate attraction of a quality, diverse workforce to ensure accomplishment of the CDC/ATSDR missions; (6) provides performance management training for all SES and Title 42 executives with emphasis on performance systems, timelines, supervisory and employee responsibilities; (7) provides guidance on establishing performance plans, conducting mid-year reviews, and conducting final performance rating discussions and closing performance plans; (8) develops and maintains a standard Department-wide performance management system and forms for executives;(9) conducts reviews of SES performance plans and appraisals and provide feedback; (10) prepares and submits SES performance system certification request to OPM and OMB; (11) processes performance awards and performance-based pay adjustments; (12) provides advice, assistance, templates and training workshops on performance award and Presidential Rank Award requirements; (13) manages the HHS Executive Development Program, including developmental activities, rotational assignments, and the Candidate Development Program; (14) advises on development of executive succession planning activities; and (15) provides program guidance, administration, and oversight of CDC/ATSDR immigration and visa programs.

Office of the Director (CAJQG1). (1) Provides leadership and overall direction for the Executive and Scientific Resources Office (ESRO); (2) develops goals and objectives, and provides leadership, policy formation, oversight, and guidance in program planning and development; (3) plans, coordinates, and develops strategic plans for the Executive and Scientific Resources Office; (4) coordinates all program reviews; (5) provides technical assistance and consultation to the activities within ESRO; and (6) coordinates, develops, and monitors implementation of program initiatives.

Senior Executive Compensation and Performance Activity (CAJQG2). (1) Provides advisory services, and technical assistance on pay and compensation guidelines in accordance with OPM rules and regulations, HHS and CDC/ATSDR established pay and compensation recommendation policies, and procedures; (2) provides expert human resources advisory services and technical assistance support to the CDC performance review boards and compensation committees; (3) reviews actions for statutory and regulatory compliance; (4) manages strategic recruitment, relocation, and retention incentives to facilitate attraction of a quality, diverse workforce to ensure accomplishment of the CDC/ATSDR missions; (5) provides performance management training for all SES and Title 42 executives with emphasis on performance systems, timelines, supervisory and employee responsibilities; (6) provides guidance on establishing performance plans, conducting mid-year reviews, and conducting final performance rating discussions and closing performance plans; (7) develops and maintains a standard Department-wide performance management system and forms for executives; (8) conducts reviews of SES performance plans and appraisals and provides feedback; (9) prepares and submits SES performance system certification request to OPM and OMB; (10) processes performance awards and performance-based pay adjustments; (11) provides advice, assistance, templates and training workshops on performance award and Presidential Rank Award requirements; (12) manages the HHS Executive Development Program, including developmental activities, rotational assignments, and the Candidate Development Program; and (13) advises on development of executive succession planning activities.

Title 42 Staffing and Recruitment Activity (CAJQG3). (1) Provides leadership, technical assistance, guidance, and consultation in the administration of policies and procedures for appointment of individuals through the distinguished consultants, experts, consultants, and fellows under Title 42 appointment authorities; and (2) administers and manages the Guest Researcher and Oak Ridge Institute for Science and Education Program.

Immigration Activity (CAJQG4). (1) provides technical guidance and visa-assistance for employment based, CDC- sponsored visas; (2) administers and Manages the Exchange Visitor Program; (3) works closely with the US Office of Exchange and Cultural Affairs, US Citizenship and Immigration Services, US Department of Homeland Security, US Department of State, Office of the Secretary/DHHS, and US Department of Labor) to facilitate immigration procedures; (4) reviews, processes and files H-1B, O-1, and Green Card (I-140) Petitions with the U.S. Citizenship and Immigration Services; (5) provides advisory services and guidance on employment based green card petitions in the Alien of Extraordinary Ability category; (6) issues Certificate of Eligibility for J-1 Exchange Visitor Status through the Student and Exchange Visitor Information System to non US citizens seeking CDC J-1 visa sponsorship; (7) coordinates and provides consultations and guidance on Interested Government Agency Waivers; (8) provides Immigration Training Workshops to CDC/ATSDR Administrative Staff; and (9) determines the appointment mechanism, legal status, and work authorizations for non U.S. citizens through the Visitors Management System.

Sherri A. Berger,
Chief Operating Officer, Centers for Disease Control and Prevention.

[FR Doc. 2016-28225 Filed 11-22-16; 8:45 am]

BILLING CODE 4160-18-P